DEPARTMENT OF COMMERCE

Patent and Trademark Office

37 CFR Part 1

[Docket No.: PTO-P-2022-0008]

RIN 0651-AD60

Standardization of the Patent Term Adjustment Statement Regarding Information Disclosure Statements

AGENCY: United States Patent and Trademark Office, Department of Commerce.

ACTION: Notice of proposed rulemaking; reopening of comment period.

SUMMARY: The United States Patent and Trademark Office (USPTO) is reopening the comment period for the proposed rule titled “Standardization of the Patent Term Adjustment Statement Regarding Information Disclosure Statements” that was published in the Federal Register on July 12, 2022. The proposed rule's comment period, which ended on September 12, 2022, is extended until December 2, 2022. In addition, the USPTO will treat as timely any comment that was received between September 12, 2022, and November 18, 2022.

DATES: The USPTO is reopening the comment period for the proposed rule that published at 87 FR 41267 on July 12, 2022, and that requested comments by July 12, 2022. Comments on this proposed rule must be received on or before December 2, 2022. The USPTO will also treat as timely any comments received between September 12, 2022, and November 18, 2022.

ADDRESSES: For reasons of government efficiency, comments must be submitted through the Federal eRulemaking Portal at www.regulations.gov. To submit comments via the portal, enter docket number PTO-P-2022-0008 on the homepage and click “Search.” The site will provide a search results page listing all documents associated with this docket. Find a reference to this document and click on the “Comment” icon, complete the required fields, and enter or attach your comments. Attachments to electronic comments will be accepted as various file types, including Adobe® portable document format (PDF) and Microsoft Word® format. Because comments will be made available for public inspection, information the submitter does not desire to make public, such as an address or phone number, should not be included in the comments.

Visit the Federal eRulemaking Portal for additional instructions on providing comments via the portal. If electronic submission of comments is not feasible due to a lack of access to a computer and/or the internet, please contact the USPTO using the contact information below (at FOR FURTHER INFORMATION CONTACT) for special instructions.

FOR FURTHER INFORMATION CONTACT: Kery Fries, Senior Legal Advisor, Office of Patent Legal Administration, at 571-272-7757. You can also send inquiries to patentpractice@uspto.gov.

SUPPLEMENTARY INFORMATION: On July 12, 2022, the USPTO published a proposed rule, “Standardization of the Patent Term Adjustment Statement Regarding Information Disclosure Statements,” to revise the rules of practice pertaining to patent term adjustment to require that the patent term adjustment statement regarding information disclosure statements be submitted on a USPTO form (87 FR 41267, July 12, 2022). After the comment deadline for the proposed rule closed, USPTO became aware of some continued stakeholder interest in submitting comments on the proposal. Therefore, the USPTO is reopening the written comment period for the proposed rule to ensure that all stakeholders have a sufficient opportunity to submit comments on the proposal. The USPTO will also treat as timely any comments received between the original comment period deadline of September 12, 2022, and November 18, 2022.

Katherine K. Vidal,
Under Secretary of Commerce for Intellectual Property and Director of the United States Patent and Trademark Office.

[FR Doc. 2022-25156 Filed 11-17-22; 8:45 am]

BILLING CODE 3510-16-P